FEDERAL DEPOSIT INSURANCE CORPORATION

Notice to All Interested Parties of the Termination of the Receivership of City Savings FSB, Somerset, NJ

Notice is Hereby Given that the Federal Deposit Insurance Corporation (“FDIC”) as Receiver for City Savings FSB, Somerset, New Jersey (“Receiver”) intends to terminate the Receivership for said institution. The Resolution Trust Corporation (“RTC”) was appointed Receiver for City Savings FSB and City Savings Bank FSB and pursuant to 12 U.S.C. 1441a(m)(1) FDIC succeeded RTC as Receiver. Receivership activities for City Savings Bank FSB were previously terminated on January 1, 2004. The liquidation of receivership assets has been completed. To the extent permitted by available funds, and in accordance with law, the Receiver will be making a final dividend payment to proven creditors.

Based on the foregoing, the Receiver has determined that the continued existence of the receiverships will serve no useful purpose. Consequently, notice is given that the Receivership shall be terminated, to be effective no sooner than thirty days after the date of this Notice. If any person wishes to comment concerning the termination of the Receivership, such comment must be made in writing and sent within thirty days of the date of this Notice to: Federal Deposit Insurance Corporation, Attention: Receivership Oversight Department 34.3, 1601 Bryan Street, Dallas, Texas 75201.

No comments concerning the termination of these receiverships will be considered which are not sent within this time frame.

Federal Deposit Insurance Corporation.
Dated August 22, 2011.
Valerie J. Best,
Assistant Executive Secretary.

[FR Doc. 2011-21904 Filed 8-25-11; 8:45 am]

BILLING CODE 6714-01-P